DEPARTMENT OF HOMELAND SECURITY

Coast Guard

33 CFR Part 110

[Docket No. USCG-2014-0142]

RIN 1625-AA01

Anchorage Regulations: Special Anchorage Areas, Marina del Rey Harbor, California

AGENCY: Coast Guard, DHS.

ACTION: Notice of proposed rulemaking; notice of public meeting and reopening of the comment period.

SUMMARY: The Coast Guard announces a November 20, 2014 public meeting to receive comments on a notice of proposed rulemaking entitled “Anchorage Regulations: Subpart A—Special Anchorage Areas, Marina del Rey Harbor, California ” that was published in the Federal Register on May 28, 2014. As stated in that document, the Coast Guard proposes to disestablish the special anchorage area at the north end of the main channel in Marina del Rey Harbor, California. This proposed action would remove the anchorage area from Coast Guard regulations. This proposed rule would not prevent vessels from anchoring in the harbor during storms, stress, or other emergency situations. We have reopened the comment period which will now end November 28, 2014.

DATES: A public meeting will be held on Thursday, November 20, 2014, from 4:30 p.m. to 6:30 p.m. in Marina del Rey, CA to provide an opportunity for oral comments. The comment period for this rulemaking is reopened through November 28, 2014.

ADDRESSES: The public meeting will be held at the Burton W. Chace Park Community Room, 13650 Mindanao Way, Marina del Rey, CA 90292, telephone 310-305-9595.

You may submit comments identified by docket number USCG-2014-0142 using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is (202) 366-9329.

See the “Public Participation and Request for Comments” portion of the SUPPLEMENTARY INFORMATION section below for further instructions on submitting comments. To avoid duplication, please use only one these three methods.

FOR FURTHER INFORMATION CONTACT: If you have questions concerning the meeting or the proposed rule, please call or email Lieutenant Van Vu, Waterways Management Division, U.S. Coast Guard District 11, telephone 510-437-2978, email van.h.vu@uscg.mil. If you have questions on viewing or submitting material to the docket, call Cheryl Collins, Program Manager, Docket Operations, telephone 202-366-9826.

SUPPLEMENTARY INFORMATION:

Background and Purpose

We published a notice of proposed rulemaking (NPRM) in the Federal Register on May 28, 2014 (79 FR 30509), entitled “Anchorage Regulations: Subpart A—Special Anchorage Areas, Marina del Rey Harbor, California” in which we stated we did not plan to hold a public meeting. We received several requests for a meeting in comments submitted to the docket and have concluded that a public meeting would aid this rulemaking. Therefore, we are announcing a public meeting.

You may view the NPRM in our online docket and comments submitted thus far by going to http://www.regulations.gov. Once there, insert “USCG-2014-0142” in the “Keyword” box and click “Search.” You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate in this rulemaking by submitting comments either orally at the meeting or in writing. If you bring written comments to the meeting, you may submit them to Coast Guard personnel specified at the meeting to receive written comments. These comments will be submitted to our online public docket. To submit your comment online, go to http://www.regulations.gov, type the docket number USCG-2014-0142 in the “SEARCH” box and click “SEARCH.” Click on “Submit a Comment” on the line associated with this rulemaking. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact Lieutenant Van Vu at the telephone number or email address indicated under the FOR FURTHER INFORMATION CONTACT section above.

Public Meeting

The Coast Guard will hold a public meeting regarding its Anchorage Regulations: Subpart A—Special Anchorage Areas, Marina del Rey Harbor, California proposed rule on Thursday, November 20, 2014, from 4:30 p.m. to 6:30 p.m. at the Burton W. Chace Park Community Room at 13650 Mindanao Way, Marina del Rey, CA 90292, telephone 310-305-9595. Public parking lots are available on a pay basis. For Public transit information to the Community Room, contact the Los Angeles County Metropolitan Transportation Authority (Metro) at 323-466-3876 or search at http://www.metro.net for additional information. We will provide a written summary of the meeting and additional comments received at the meeting in the docket. The meeting may conclude before the allotted time if all who have come to submit oral comments have done so before 6:30 p.m.

Dated: October 23, 2014.
J.A. Servidio,
Rear Admiral, U.S. Coast Guard, Commander, Eleventh Coast Guard District.

[FR Doc. 2014-26185 Filed 11-3-14; 8:45 am]

BILLING CODE 9110-04-P